DEPARTMENT OF DEFENSE

Department of the Army

[Docket ID: USA-2016-HQ-0034]

Proposed Collection; Comment Request

AGENCY: USA Installation Management Command (IMCOM), DoD.

ACTION: Notice.

SUMMARY: In compliance with the Paperwork Reduction Act of 1995, the USA Installation Management Command (IMCOM) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 16, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the USA Installation Management Command (IMCOM) Headquarters, 2405 Gun Shed Road, Bldg 2261, Room 1400, ATTN: Israel S. Garcia, Fort Sam Houston, TX 78234-1223, or call IMCOM Headquarters G32 at 210-466-0286/0259.

SUPPLEMENTARY INFORMATION:

Title; Associated Form; and OMB Number: Child Service Background Checks; IMCOM Form 23, IMCOM Form 24, IMCOM Form 25), IMCOM Form 30; OMB Control Number 0702-XXXX.

Needs and Uses: The information collection requirement is necessary for the Department of the Army's proposed new system of records used to access the suitability of persons; determine loyalty, eligibility and general trustworthiness of individuals working in childcare related positions; and provide child care youth programming and reports.

Affected Public: Individuals or households.

Annual Burden Hours: 22,000.

Number of Respondents: 44,000.

Responses per Respondent: 1.

Annual Responses: 44,000.

Average Burden per Response: 30 Minutes.

Frequency: Annually.

Respondents are IMCOM appropriated fund (APF) and non-appropriated fund (NAF) employees; members of the military (active and reserve); foreign national employees overseas; and APF and NAF contractors, including subcontractors, who have regular contact with children under age of 18, as well as applicants for those positions. This applies to all offices responsible for on-boarding and providing support for screening and background checks, including civilian and military personnel; Army Substance Abuse Programs (ASAP); Directorates of Family, Morale, Welfare, and Recreations (DFMWR); Directorates of Plans, Training Mobilization, and Security (DPTMS); Criminal Investigation Division (CID), and Installation Religious Services Offices (RSO).

Dated: October 12, 2016.
Aaron Siegel,
Alternate OSD Federal Register Liaison Officer, Department of Defense.

[FR Doc. 2016-25036 Filed 10-14-16; 8:45 am]

BILLING CODE 50063710-01-P